DEPARTMENT OF HOUSING AND URBAN DEVELOPMENT

[Docket No. FR-7066-N-07]

60-Day Notice of Proposed Information Collection: Community Development Block Grant-Pathways to Removing Obstacles (CDBG-PRO) Housing Competition Application Collection; OMB Control No.: 2506-New

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 21, 2023.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and can be sent to Colette Pollard, Reports Management Officer, REE, Department of Housing and Urban Development, 451 7th Street SW, Room 8210, Washington, DC 20410-5000; or email at PaperworkReductionActOffice@hud.gov.

FOR FURTHER INFORMATION CONTACT: Jessie Handforth Kome, Director, Office of Block Grant Assistance, Office of Community Planning and Development, Department of Housing and Urban Development, 451 7th Street SW, Room 7282, Washington, DC 20410, telephone number 202-708-3587 x5539 (this is not a toll-free number). Facsimile inquiries may be sent to Ms. Jessie Handforth Kome at 202-708-0033. Except for the “800” number, these telephone numbers are not toll-free. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in section A.

A. Overview of Information Collection

Title of Information Collection: CDBG-PRO Housing Competition Application Collection.

OMB Approval Number: 2506-New.

Type of Request: New collection.

Form Number: N/A.

Description of the need for the information and proposed use: HUD is issuing this NOFO under the authority of the Consolidated Appropriations Act, 2023 (Pub. L. 117-328, enacted December 29, 2022) (Appropriations Act) for the identification and removal of barriers to affordable housing production and preservation. The most successful proposals in this competition will demonstrate not only how applicants identify and remove affordable housing barriers within their jurisdiction(s), but also demonstrate: (1) progress and a commitment to overcoming local barriers to facilitate the increase in affordable housing production and preservation; and (2) an acute demand for housing affordable to households with incomes below 100 percent of the area median income. HUD encourages applicants to also consider how their proposed activities will address issues related to affordable housing production and preservation, such as advancing equity, locating affordable housing near transit and other services, and developing and preserving affordable housing in accordance with input from community members and other stakeholders.

Respondents: State and local governments, metropolitan planning organizations and multijurisdictional entities.

Estimated Number of Respondents: 100+.

Estimated Number of Responses: 100.

Frequency of Response: 1.

Average Hours per Response: 3.

Total Estimated Burdens: $11,676.

Information collection | Number of respondents | Frequency of response | Responses per annum | Burden hour per response | Annual burden hours | Hourly cost per response | Annual cost
See above | 100 | 1 | 100 | 3 | 300 | $38.92 | $11,676

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority Section 3507 of the Paperwork Reduction Act of 1995, 44 U.S.C. chapter 35.

Marion M. McFadden,
Principal Deputy Assistant Secretary for Community Planning and Development.

[FR Doc. 2023-10837 Filed 5-19-23; 8:45 am]

BILLING CODE 4210-67-P